ENVIRONMENTAL PROTECTION AGENCY

[ER-FRL-6665-7]

Environmental Impacts Statements; Notice of Availability

Responsible Agency: Office of Federal Activities, General Information (202) 564-7167 or http://www.epa.gov/compliance/nepa/.

Weekly receipt of Environmental Impact Statements

Filed 07/18/2005 through 07/22/2005

Pursuant to 40 CFR 1506.9.

EIS No. 20050301, Draft EIS, FAA, 00, Programmatic—Horizontal Launch and Reentry of Reentry Vehicles, Facilitate the Issuance of Licenses in United States, Comment Period Ends: 09/12/2005, Contact: Stacey M. Zee 202-267-9305.

EIS No. 20050302, Fourth Final Supplement, IBW, CA, South Bay International Wastewater Treatment Plan (SBIWTP), To Address Treatment Alternatives from Tijuana, Mexico that cross into United States/Mexico Border in San Diego County, CA, Wait Period Ends: 08/29/2005, Contact: Daniel Borunda 915-832-4701.

EIS No. 20050303, Final EIS, EPA, CA, LA-3 Ocean Dredged Material Disposal Site off Newport Bay, Proposed Site Designation, Orange County, CA, Wait Period Ends: 08/29/2005, Contact: Larry Smith 213-452-3846.

EIS No. 20050304, Final EIS, AFS, ID, Red Pines Project, Implementation of Fuel Reduction Activities and Watershed Activities Improvement, Nez Perce National Forest, Red River Ranger District, Idaho County, ID, Wait Period Ends: 08/29/2005, Contact: Jennie Fischer 209-983-1950.

EIS No. 20050305, Draft Supplement, AFS, OR, Drew Creek, Diamond Rock and Divide Cattle Allotments, Updated Information. Issuance of Term Grazing Permits on Livestock Allotments on Tiller Ranger District, Implementation, Umpqua National Forest, Douglas and Jackson Counties, OR, Comment Period Ends: 09/12/2005, Contact: Wes Yamamoto 541-825-3201.

EIS No. 20050306, Draft EIS, FHW, NE, US Highway 34, Plattsmouth Bridge Study, over the Missouri River between U.S. 75 and I-29, Funding, Coast Guard Permit, US Army COE 10 and 404 Permits, Cass County, NE and Mills County, IA, Comment Period Ends: 09/12/2005, Contact: Edward Kosala 402-437-5973.

EIS No. 20050307, Final EIS, IBR, CA, Battle Creek Salmon and Steelhead Restoration Project, To Address New Significant Information, Habitat Restoration in Battle Creek and Tributaries, License Amendment Issuance, Implementation, Tehama and Shasta Counties, CA, Wait Period Ends: 08/29/2005, Contact: Mary Marshall 916-978-5248.

EIS No. 20050308, Draft EIS, BLM, NV, Ely District Resource Management Plan, Implementation, White Pine, Lincoln Counties and a Portion of Nye County, NV, Comment Period Ends: 11/28/2005, Contact: Gene Davis 775-289-1880.

EIS No. 20050309, Final Supplement, AFS, WA, Deadman Creek Ecosystem Management Projects, Information of the Planning the Analysis of the Watershed, Three Rivers Ranger District, Colville National Forest, Ferry County, WA, Wait Period Ends: 08/29/2005, Contact: Sherri Schwenke 509-738-7700.

EIS No. 20050310, Draft EIS, JUS, TX, Laredo Detention Facility, Proposed Contractor-Owned/Contractor-Operated Detention Facility, Implementation, Webb County, TX, Comment Period Ends: 09/12/2005, Contact: Arnett A. Rogiers 202-305-9427.

EIS No. 20050311, Draft EIS, NPS, NE, Niobrara National Scenic River General Management Plan, Implementation, Brown, Cherry, Keya Paha and Rock Counties, NE, Comment Period Ends: 09/12/2005, Contact: Paul Hedren 402-336-3970.

EIS No. 20050312, Final EIS, NRC, CT, Generic-License Renewal of Nuclear Plants for the Millstone Power Station, Units 2 and 3, Supplement 22 to NUREG-1437, Implementation, New London County, CT, Wait Period Ends: 08/29/2005, Contact: Richard L. Emch 301-415-1590.

Dated: July 26, 2005.
Robert W. Hargrove,
Director, NEPA Compliance Division, Office of Federal Activities.

[FR Doc. 05-15050 Filed 7-28-05; 8:45 am]

BILLING CODE 6560-50-P